ENVIRONMENTAL PROTECTION AGENCY

[EPA-HQ-OPP-2017-0720; FRL-12085-01-OCSPP]

Pesticide Registration Review; Pesticide Dockets Opened for Review and Comment; Notice of Availability

AGENCY: Environmental Protection Agency (EPA).

ACTION: Notice.

SUMMARY: The Environmental Protection Agency (EPA or Agency) is announcing the availability of and soliciting comment on the work plans and registration review case dockets for the following active ingredients: Banda de Lupinus albus doce, cyflumetofen, Listeria specific Bacteriophages, and Streptomyces strain K61.

DATES: Comments must be received on or before September 13, 2024.

ADDRESSES: Submit your comments, identified by the docket identification (ID) number for the specific pesticide of interest provided in table 1 of unit II., through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For pesticide specific information: The Chemical Review Manager for the pesticide of interest is identified in table 1 of unit II.

For general questions: Melanie Biscoe, Pesticide Re-Evaluation Division (7508P), Office of Pesticide Programs, Environmental Protection Agency, 1200 Pennsylvania Ave. NW, Washington, DC 20460-0001; telephone number: (202) 566-0701; email address: biscoe.melanie@epa.gov.

SUPPLEMENTARY INFORMATION:

I. Does this action apply to me?

This action is directed to the public in general and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the Chemical Review Manager identified in table 1 of unit II.

II. What action is the Agency taking?

Pursuant to 40 CFR 155.50(b), this notice announces the availability of the EPA's work plans and registration review case dockets for the pesticides shown in Table 1 and opens a 60-day public comment period on the work plans and case dockets.

Table 1—Work Plans Being Made Available for Public Comment
Registration review case name and No. | Docket ID No. | Chemical review manager and contact information
Banda de Lupinus albus doce, Case Number 6318 | EPA-HQ-OPP-2023-0357 | Bibiana Oe, oe.bibiana@epa.gov, (202) 566-1538.
Cyflumetofen, Case Number 7463 | EPA-HQ-OPP-2022-0194 | Susan Bartow, bartow.susan@epa.gov, (202) 566-2280.
Listeria specific Bacteriophages, Case Number 5091 | EPA-HQ-OPP-2024-0178 | Susanne Cerrelli, cerrelli.susanne@epa.gov, (202) 566-1516.
Streptomyces strain K61, Case Number 6066 | EPA-HQ-OPP-2021-0832 | Susanne Cerrelli, cerrelli.susanne@epa.gov, (202) 566-1516.

III. What is the Agency's authority for taking this action?

EPA is conducting its registration review of the chemicals listed in Table 1 of Unit II. pursuant to the Federal Insecticide, Fungicide, and Rodenticide Act (FIFRA) section 3(g) (7 U.S.C. 136a(g)) and the Procedural Regulations for Registration Review at 40 CFR part 155, subpart C. FIFRA section 3(g) provides, among other things, that pesticide registrations are to be reviewed every 15 years. Consistent with 40 CFR 155.57, in its final registration review decision, EPA will ultimately determine whether a pesticide continues to meet the registration standard in FIFRA section 3(c)(5) (7 U.S.C. 136a(c)(5)).

Pursuant to 40 CFR 155.50, EPA initiates a registration review by establishing a public docket for a pesticide registration review case. Registration review dockets contain information that will assist the public in understanding the types of information and issues that the Agency has consider during registration review. Consistent with 40 CFR 155.50(a), these dockets may include information from the Agency's files including, but not limited to, an overview of the registration review case status, a list of current product registrations and registrants, any Federal Register notices regarding any pending registration actions, any Federal Register notices regarding current or pending tolerances, risk assessments, bibliographies concerning current registrations, summaries of incident data, and any other pertinent data or information. EPA includes in these dockets a Preliminary Work Plan (PWP), and in some cases a continuing work plan (CWP), summarizing information EPA has on the pesticide and the anticipated path forward.

Consistent with 40 CFR 155.50(b), EPA provides for at least a 60-day public comment period on work plans and registration review dockets. This comment period is intended to provide an opportunity for public input and a mechanism for initiating any necessary changes to a pesticide's workplan. During this public comment period, the Agency is asking that interested persons identify any additional information they believe the agency should consider during the registration reviews of these pesticides. The Agency identifies in each docket the areas where public comment is specifically requested, though comment in any area is welcome.

For additional background on the registration review program, see: https://www.epa.gov/pesticide-reevaluation.

IV. What should I consider as I prepare comment for EPA?

1. Submitting CBI. Do not submit CBI to EPA through email or https://www.regulations.gov. If you wish to include CBI in your comment, please follow the applicable instructions at https://www.epa.gov/dockets/commenting-epa-dockets#rules and clearly mark the information that you claim to be CBI. Information so marked will not be disclosed except in accordance with procedures set forth in 40 CFR part 2.

2. Tips for preparing your comments. When preparing and submitting your comments, see the commenting tips at https://www.epa.gov/dockets/commenting-epa-dockets.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

All comments should be submitted using the methods in ADDRESSES and must be received by the EPA on or before the closing date. These comments will become part of the docket for the pesticides included in table 1 of unit II. The Agency will consider all comments received by the closing date and may respond to comments in a “Response to Comments Memorandum” in the docket or the Final Work Plan (FWP), as appropriate.

Authority: 7 U.S.C. 136 et seq.

Dated: July 9, 2024.
Jean Overstreet,
Director, Pesticide Re-evaluation Division, Office of Pesticide Programs.

[FR Doc. 2024-15468 Filed 7-12-24; 8:45 am]

BILLING CODE 6560-50-P